DEPARTMENT OF AGRICULTURE

Office of the Secretary

Provincial Advisory Committees

AGENCY: Office of the Secretary, USDA.

ACTION: Notice of advisory committee renewal.

SUMMARY: In response to the continued need of the Department of Agriculture and the Department of the Interior for advice on coordination and implementation of the Record of Decision of April 13, 1994, for Management of Habitat for Late-Successional and Old-Growth Forest Related Species Within the Range of the Northern Spotted Owl, the Departments have renewed the Provincial Advisory Committees for 12 provinces. The purpose of the Provincial Advisory Committees is to provide advice on coordinating the implementation of the Record of Decision and to make recommendations promoting the integration and coordination of forest management activities between Federal and non-Federal entities.

FOR FURTHER INFORMATION CONTACT: Jonathan Stephens, Planning Specialist, Forest Service, USDA, (202) 205-0948.

SUPPLEMENTARY INFORMATION: Pursuant to the Federal Advisory Committee Act (5 U.S.C. App.), notice is hereby given that the Department of Agriculture, in consultation with the Department of the Interior, has renewed the Provincial Advisory Committees (PACs), which will advise the Provincial Interagency Executive Committee (PIEC). The purpose of the PIEC is to facilitate the coordinated implementation of the Record of Decision of April 13, 1994. The PIEC consists of representatives of the following Federal agencies: the Forest Service, the Bureau of Land Management, the Fish and Wildlife Service, the National Marine Fisheries Service, the National Park Service, the Bureau of Indian Affairs, the Environmental Protection Agency, the Army Corps of Engineers, the Natural Resource Conservation Service, and the Geological Survey's Biological Resources Division.

Ecosystem management at the province level requires improved coordination among governmental entities responsible for land management decisions and the public those agencies serve. The PACs provide advice and recommendations to promote integration and coordination of forest management activities between Federal and non-Federal entities. Each PAC will provide advice regarding implementation of a comprehensive ecosystem management strategy for Federal land within a province (provinces are defined in the Record of Decision at E-19).

The chairing responsibility of the PACs will alternate annually between the Forest Service's and the Bureau of Land Management's representative. When the Bureau of Land Management is not represented on the PIEC, the Forest Service representative will serve as chair. The chair, or a designated agency employee, will serve as the Designated Federal Official under sections 10(e) and (f) of the Federal Advisory Committee Act (5 U.S.C. App.).

The renewal of the PACs does not require an amendment of Bureau of Land Management or Forest Service planning documents because the renewal does not affect the standards and guidelines or land allocations. The Bureau of Land Management and Forest Service will provide further notices, as needed, for additional actions or adjustments when implementing interagency coordination, public involvement, and other aspects of the Record of Decision.

Equal opportunity practices are followed in all appointments to the advisory committees. To ensure that the recommendations of the PACs have taken into account the needs of diverse groups served by the Departments, membership will include, to the extent practicable, individuals with demonstrated ability to represent minorities, women, persons with disabilities, and senior citizens.

Dated: October 23, 2000.
Paul W. Fiddick,
Assistant Secretary for Administration.

[FR Doc. 00-31538 Filed 12-11-00; 8:45 am]

BILLING CODE 3410-11-M